DEPARTMENT OF ENERGY

[FE Docket No. 13-147-LNG]

Change in Control; Delfin LNG, LLC

AGENCY: Office of Fossil Energy, DOE.

ACTION: Notice.

SUMMARY: The Office of Fossil Energy (FE) of the Department of Energy (DOE) gives notice of receipt of a Notice of Change in Control Through Indirect Equity Ownership Changes (Notice), filed July 10, 2018 by Delfin LNG, LLC (Delfin LNG) in FE Docket No. 13-147-LNG. The Notice describes changes to the corporate structure and ownership of Delfin LNG. The Notice was filed under section 3 of the Natural Gas Act (NGA).

DATES: Protests, motions to intervene or notices of intervention, as applicable, and written comments are to be filed using procedures detailed in the Public Comment Procedures section no later than 4:30 p.m., Eastern time, September 13, 2018.

ADDRESSES:

Electronic Filing by email: fergas@hq.doe.gov.

Regular Mail: U.S. Department of Energy (FE-34), Office of Regulation and International Engagement, Office of Fossil Energy, P.O. Box 44375, Washington, DC 20026-4375.

Hand Delivery or Private Delivery Services (e.g., FedEx, UPS, etc.): U.S. Department of Energy (FE-34), Office of Regulation and International Engagement, Office of Fossil Energy, Forrestal Building, Room 3E-042, 1000 Independence Avenue SW, Washington, DC 20585.

FOR FURTHER INFORMATION CONTACT:

Larine Moore or Amy Sweeney, U.S. Department of Energy (FE-34), Office of Regulation and International Engagement, Office of Fossil Energy, Forrestal Building, Room 3E-042, 1000 Independence Avenue SW, Washington, DC 20585, (202) 586-9478; (202) 586-7893.

Cassandra Bernstein or Ronald (R.J.) Colwell, U.S. Department of Energy (GC-76), Office of the Assistant General Counsel for Electricity and Fossil Energy, Forrestal Building, 1000 Independence Avenue SW, Washington, DC 20585, (202) 586-9793; (202) 586-8499.

SUPPLEMENTARY INFORMATION:

Summary of Change in Control

On July 10, 2018, Delfin LNG filed a Notice of Change in Control Through Indirect Equity Ownership Changes in the above-referenced docket.¹ In the Notice, Delfin LNG states that it has recently undergone changes in its corporate structure and ownership. Specifically, Delfin LNG was a wholly-owned subsidiary of Fairwood Peninsula Energy (Fairwood Peninsula). An intermediary holding company, Delfin Midstream, LLC (Delfin Midstream) was subsequently established, with Fairwood Peninsula owning 100% of Delfin Midstream and Delfin Midstream owning 100% of Delfin LNG. Thereafter, Delfin Midstream was converted from a limited liability company to a corporation. In June 2018, equity shares in Delfin Midstream were sold to a variety of investors to raise additional capital. Effective June 12, 2018, Fairwood Peninsula's ownership of Delfin Midstream had been reduced from 100% to 30.7%. Two other entities (Talisman Global Alternative Master, L.P. and Talisman Global Capital Master, L.P.) also own or control 10% or more of the voting securities of Delfin Midstream. Delfin Midstream continues to own 100% of Delfin LNG.²

¹ Delfin LNG, LLC, FE Docket Nos. 13-129-LNG and 13-147-LNG, Notice of Change of Control Through Indirect Equity Ownership Changes (July 10, 2018) [hereinafter Delfin LNG Notice].

² See id. at 2-3.

Additional details can be found in Delfin LNG's Notice, posted on the DOE/FE website at: https://fossil.energy.gov/ng_regulation/sites/default/files/programs/Delfin_CIC_07_11_18.pdf.

DOE/FE Evaluation

DOE/FE will review Delfin LNG's Notice in accordance with its Procedures for Changes in Control Affecting Applications and Authorizations to Import or Export Natural Gas (CIC Procedures).³ Consistent with the CIC Procedures, this Notice addresses only the authorization granted to Delfin LNG to export liquefied natural gas (LNG) to non-free trade agreement (non-FTA) countries in DOE/FE Order No. 4028 (FE Docket No. 13-147-LNG).⁴ If no interested person protests the change in control and DOE takes no action on its own motion, the change in control will be deemed granted 30 days after publication in the Federal Register. If one or more protests are submitted, DOE will review any motions to intervene, protests, and answers, and will issue a determination as to whether the proposed changes in control have been demonstrated to render the underlying authorization inconsistent with the public interest.

³ 79 FR 65541 (Nov. 5, 2014).

⁴ Delfin LNG's Notice also applies to its FTA authorization in FE Docket No. 13-129-LNG, but DOE/FE will respond to that portion of the Notice separately pursuant to its CIC Procedures, 79 FR 65542.

Public Comment Procedures

Interested persons will be provided 15 days from the date of publication of this notice in the Federal Register in order to move to intervene, protest, and answer Delfin LNG's Notice. Protests, motions to intervene, notices of intervention, and written comments are invited in response to this notice only as to the change in control described in Delfin LNG's Notice, and only with respect to Delfin LNG's non-FTA authorization in DOE/FE Order No. 4028. All protests, comments, motions to intervene, or notices of intervention must meet the requirements specified by DOE's regulations in 10 CFR part 590.

Filings may be submitted using one of the following methods: (1) Preferred method: Emailing the filing to fergas@hq.doe.gov, with the individual FE Docket Number in the title line, or Delfin LNG Change in Control in the title line to include the applicable docket in this notice; (2) mailing an original and three paper copies of the filing to the Office of Regulation and International Engagement at the address listed in ADDRESSES; or (3) hand delivering an original and three paper copies of the filing to the Office of Regulation and International Engagement at the address listed in ADDRESSES. All filings must include a reference to the individual FE Docket Number(s) in the title line, or Delfin LNG Change in Control in the title line to include all applicable docket in this notice. Please Note: If submitting a filing via email, please include all related documents and attachments (e.g., exhibits) in the original email correspondence. Please do not include any active hyperlinks or password protection in any of the documents or attachments related to the filing. All electronic filings submitted to DOE must follow these guidelines to ensure that all documents are filed in a timely manner. Any hardcopy filing submitted greater in length than 50 pages must also include, at the time of the filing, a digital copy on disk of the entire submission.

Delfin LNG's Notice and any filed protests, motions to intervene, notices of intervention, and comments are available for inspection and copying in the Office of Regulation and International Engagement docket room, Room 3E-042, 1000 Independence Avenue SW, Washington, DC 20585. The docket room is open between the hours of 8:00 a.m. and 4:30 p.m., Monday through Friday, except Federal holidays.

The Notice and any filed protests, motions to intervene, notices of interventions, and comments will also be available electronically by going to the following DOE/FE Web address: http://www.fe.doe.gov/programs/gasregulation/index.html.

Signed in Washington, DC, on August 23, 2018.
Amy Sweeney,
Director, Division of Natural Gas Regulation, Office of Fossil Energy.

[FR Doc. 2018-18728 Filed 8-28-18; 8:45 am]

BILLING CODE 6450-01-P